DEPARTMENT OF TRANSPORTATION

Federal Aviation Administration

14 CFR Part 39

[Docket No. FAA-2006-24246; Directorate Identifier 2005-NM-115-AD]

RIN 2120-AA64

Airworthiness Directives; Airbus Model A330-200, A330-300, A340-200, and A340-300 Series Airplanes; and Model A340-541 and A340-642 Airplanes

AGENCY: Federal Aviation Administration (FAA), Department of Transportation (DOT).

ACTION: Notice of proposed rulemaking (NPRM).

SUMMARY: The FAA proposes to adopt a new airworthiness directive (AD) for all Airbus Model A330-200, A330-300, A340-200, and A340-300 series airplanes; and Model A340-541 and A340-642 airplanes. This proposed AD would require an inspection for anti-fretting material contamination of the Halon filters and plumbing parts of the flow metering system (FMS) and flow metering compact unit (FMCU) in the lower deck cargo compartment (LDCC) and bulk crew rest compartment (BCRC), as applicable; other specified actions; and corrective actions if necessary. This proposed AD results from a report that the FMS and FMCU of the fire extinguishing system may be blocked by anti-fretting material contamination. We are proposing this AD to prevent such anti-fretting material contamination, which could reduce the effectiveness of the fire extinguisher system to discharge fire extinguishing agents and to lower the concentration of Halon gas in the LDCC or BCRC in a timely manner. An ineffective fire extinguisher system in the event of a fire could result in an uncontrollable fire in the LDCC or BCRC.

DATES: We must receive comments on this proposed AD by April 27, 2006.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street, SW., Nassif Building, room PL-401, Washington, DC 20590.

• Fax: (202) 493-2251.

• Hand Delivery: Room PL-401 on the plaza level of the Nassif Building, 400 Seventh Street, SW., Washington, DC, between 9 a.m. and 5 p.m., Monday through Friday, except Federal holidays.

Contact Airbus, 1 Rond Point Maurice Bellonte, 31707 Blagnac Cedex, France, for service information identified in this proposed AD.

FOR FURTHER INFORMATION CONTACT: Tim Backman, Aerospace Engineer, International Branch, ANM-116, Transport Airplane Directorate, FAA, 1601 Lind Avenue, SW., Renton, Washington 98055-4056; telephone (425) 227-2797; fax (425) 227-1149.

SUPPLEMENTARY INFORMATION:

Comments Invited

We invite you to submit any relevant written data, views, or arguments regarding this proposed AD. Send your comments to an address listed in the ADDRESSES section. Include the docket number “FAA-2006-24246; Directorate Identifier 2005-NM-115-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

The Direction Générale de l'Aviation Civile (DGAC), which is the airworthiness authority for France, notified us that an unsafe condition may exist on all Airbus Model A330-200, A330-300, A340-200, and A340-300 series airplanes; and Model A340-541 and A340-642 airplanes. The DGAC advises that the flow metering system (FMS) and the flow metering compact unit (FMCU) (only on Model A340-200 and -300 series airplanes, and Model A340-541 and A340-642 airplanes) of the fire extinguishing system may be blocked by anti-fretting material contamination. The origin of this anti-fretting material contamination inside the piping, filters, and pressure reducers may come from manufacturing of the parts, as well as installation on airplanes during production or maintenance. After the first activation of the fire extinguishing system, the DGAC advises to assume that the FMS or FMCU is contaminated, and that the fire extinguishing system may not be fully operable for its next use.

Anti-fretting material contamination, if not corrected, could reduce the effectiveness of the fire extinguisher system to discharge fire extinguishing agents and to lower the concentration of Halon gas in the lower deck cargo compartment (LDCC) or bulk crew rest compartment (BCRC) in a timely manner. An ineffective fire extinguisher system in the event of a fire could result in an uncontrollable fire in the LDCC or BCRC.

Relevant Service Information

Airbus has issued the following service bulletins:

Service Bulletins
For model— | Airbus service bulletin—
A330-201, -202, -203, -223, -243, -301, -321, -322, -323, -341, -342, and -343 airplanes | A330-26-3031, Revision 02, dated February 1, 2005.
A340-211, -212, -213, -311, -312, and -313 airplanes | A340-26-4031, Revision 02, dated February 1, 2005.
A340-541 airplanes | A340-26-5007, dated January 31, 2005.

The service bulletins describe procedures for doing a one-time general visual inspection for anti-fretting material contamination of the Halon filters and plumbing parts of the FMS in the LDCC; doing applicable corrective actions if necessary; and doing related investigative and other specified actions. The applicable corrective actions include cleaning any contaminated pressure reducer, pressure switch, plumbing part, and Halon filter; and replacing any of those parts with a new part if contamination cannot be removed. The related investigative and other specified actions include inspecting the fire extinguishing bottle to determine if it has been activated, cleaning Halon filters and plumbing parts, and applying anti-fretting material.

Airbus also has issued Service Bulletin A340-26-5008, dated January 31, 2005 (for Model A340-642 airplanes). The service bulletin describes procedures for doing a one-time general visual inspection for anti-fretting material contamination of the plumbing parts of the FMCU in the LDCC; doing applicable corrective actions if necessary; and doing other specified actions. The applicable corrective actions include replacing any plumbing part with a new part if contamination cannot be removed. The other specified actions include replacing the FMCU with new FMCUs, cleaning plumbing parts, and applying anti-fretting material.

In addition, Airbus has issued the following service bulletins:

Service Bulletins
For model— | Airbus service bulletin—
A340-311, -312, and -313 airplanes | A340-26-4035, dated February 22, 2005.
A340-541 and -642 airplanes | A340-26-5009, dated January 31, 2005.

The service bulletins describe procedures for doing a one-time general visual inspection for anti-fretting material contamination of the Halon filters and plumbing parts of the FMS in the BCRC; doing applicable corrective actions if necessary; and doing related investigative and other specified actions. The applicable corrective actions include cleaning any contaminated pressure reducer, pressure switch, plumbing part, and Halon filter; and replacing any of those parts with a new part if contamination cannot be removed. The related investigative and other specified actions include inspecting the fire extinguishing bottle to determine if it has been activated, cleaning Halon filters and plumbing parts, and applying anti-fretting material.

Further, after October 1, 2004, Airbus revised the following Airbus aircraft maintenance manuals (AMMs):

AMMs
For model— | Page block— | Of—
A330-201, -202, -203, -223, -243, -301, -321, -322, -323, -341, -342, and -343 airplanes | 201 | Chapter 26-23-00 of A330 AMM (LDCC-FMS).
A340-311, -312, and -313 airplanes | 201 | Chapter 26-28-00 of A340 AMM (BCRC-FMS).
A340-541 and -642 airplanes | 201 | Chapter 26-28-00 of A340-500/-600 AMM (BCRC-FMS).
A340-642 airplanes | 201 | Chapter 26-23-00 of A340-600 AMM (LDCC-FMU).
A340-211, -212, and -213 airplanes, and A340-311, -312, and -313 airplanes | 201 | Chapter 26-23-00 of A340 AMM (LDCC-FMS).
A340-541 and -642 airplanes | 201 | Chapter 26-23-00 of A340-500/-600 AMM (LDCC-FMS).

The revised AMMs describe procedures for restoring the fire extinguishing system in the LDCC and in the BCRC, as applicable, after any activation, and include a caution note in the work instructions about how to apply anti-fretting material during the restoration, which, when followed, prevents a malfunction of the system.

Accomplishing the actions specified in the service information is intended to adequately address the unsafe condition.

The DGAC mandated the service information and issued French airworthiness directives F-2005-019 R1 (for Model A330-200 and A330-300 series airplanes), and F-2005-020 R1 (for Model A340-200 and A340-300 series airplanes, and Model A340-541 and A340-642 airplanes); both dated May 11, 2005; to ensure the continued airworthiness of these airplanes in France.

FAA's Determination and Requirements of the Proposed AD

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. We have examined the DGAC's findings, evaluated all pertinent information, and determined that we need to issue an AD for airplanes of this type design that are certificated for operation in the United States.

Therefore, we are proposing this AD, which would require accomplishing the actions specified in the service information described previously.

Clarification Between the Proposed AD and French Airworthiness Directives

The French airworthiness directives specify the following compliance times for inspecting the FMCU and FMS in the LDCC:

Compliance Times in French Airworthiness Directives
For airplanes— | Compliance time
On which the fire extinguishing system is confirmed to have never been activated | Within 6,600 flight hours after the effective date of the AD.
On which the fire extinguishing system has been activated at least once or it is uncertain whether it has ever been activated or not | Within 2,400 flight hours after the effective date of the AD.

Like the French airworthiness directive, the proposed AD would require all affected airplanes to do the proposed actions within 2,400 flight hours after the effective date of the AD or within 6,600 flight hours after the effective date of the AD if an operator can conclusively determine that the fire extinguishing system has never been activated. However, the French airworthiness directive does not specify the means of making that determination. We have determined that reviewing an airplane log book is not a reliable way to determine if a fire extinguishing bottle has been activated, and that the only means of making this determination is by reviewing the airplane maintenance records. Therefore, this proposed AD would allow the proposed inspections to be done within 6,600 flight hours after the effective date of this AD, provided that reviewing the airplane maintenance records can conclusively determine that the fire extinguishing system has never been activated before the effective date of this AD.

Costs of Compliance

The following table provides the estimated costs for U.S. operators to comply with this proposed AD.

Estimated Costs
Action | Work hours | Average labor rate per hour | Parts | Cost per airplane | Number of U.S.-registered airplanes | Fleet cost
Inspection and restoration | Between 7 and 9 depending on airplane configuration | $65 | None | Between $455 and $585 depending on airplane configuration | 25 | $11,375 and $14,625 depending on airplane configuration.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

Airbus: Docket No. FAA-2006-24246; Directorate Identifier 2005-NM-115-AD.

Comments Due Date

(a) The FAA must receive comments on this AD action by April 27, 2006.

Affected ADs

(b) None.

Applicability

(c) This AD applies to the airplanes in table 1 of this AD; certificated in any category.

Table 1.—Affected Airplanes
All airbus model—
(1) A330-201, -202, -203, -223, and -243 airplanes.
(2) A330-301, -321, -322, -323, -341, -342, and -343 airplanes.
(3) A340-211, -212, and -213 airplanes.
(4) A340-311, -312, and -313 airplanes.
(5) A340-541 airplanes.
(6) A340-642 airplanes.

Unsafe Condition

(d) This AD results from a report that the flow metering system (FMS) and the flow metering compact unit (FMCU) of the fire extinguishing system may be blocked by anti-fretting material contamination. We are issuing this AD to prevent such anti-fretting material contamination, which could reduce the effectiveness of the fire extinguisher system to discharge fire extinguishing agents and to lower the concentration of Halon gas in the lower deck cargo compartment (LDCC) and bulk crew rest compartment (BCRC) in a timely manner. An ineffective fire extinguisher system in the event of a fire could result in an uncontrollable fire in the LDCC or BCRC.

Compliance

(e) You are responsible for having the actions required by this AD performed within the compliance times specified, unless the actions have already been done.

Restoration

(f) After the effective date of this AD, after any activation of the fire extinguishing system, before further flight, restore the fire extinguishing system in the LDCC and in the BCRC, as applicable, in accordance with a method approved by either the Manager, International Branch, ANM-116, Transport Airplane Directorate, FAA; or the Direction Générale de l'Aviation Civile (or its delegated agent). The applicable airplane maintenance manual (AMM) in table 2 of this AD is one approved method, provided that the following caution note is included in the work instructions of that AMM:

“CAUTION: APPLY A SMALL QUANTITY OF THE CORRECT GREASE TO THE MALE THREADS OF THE CONNECTIONS. THIS WILL PREVENT DAMAGE TO THE THREADS. MAKE SURE THAT THE GREASE DOES NOT GO INTO THE PIPES. GREASE IN THE PIPES CAN CAUSE A MALFUNCTION OF THE SYSTEM.”

Table 2.—AMMs
For model— | Page block— | Of—
(1) A330-201, -202, -203, -223, -243, -301, -321, -322, -323, -341, -342, and -343 airplanes | 201 | Chapter 26-23-00 of A330 AMM (LDCC-FMS).
(2) A340-311, -312, and -313 airplanes | 201 | Chapter 26-28-00 of A340 AMM (BCRC-FMS).
(3) A340-541 and -642 airplanes | 201 | Chapter 26-28-00 of A340-500/-600 AMM (BCRC-FMS).
(4) A340-642 airplanes | 201 | Chapter 26-23-00 of A340-600 AMM (LDCC-FMCU).
(5) A340-211, -212, and -213 airplanes, and A340-311, -312, and -313 airplanes | 201 | Chapter 26-23-00 of A340 AMM (LDCC-FMS).
(6) A340-541 and -642 airplanes | 201 | Chapter 26-23-00 of A340-500/-600 AMM (LDCC-FMS).

Inspections of FMS in the LDCC

(g) For airplanes identified in paragraphs (c)(1) through (c)(5) of this AD inclusive, on which the date of issuance of the original standard airworthiness certificate or the date of issuance of the original export certificate of airworthiness is before October 2, 2004: Except as provided by paragraph (j) of this AD, within 2,400 flight hours after the effective date of this AD, do a one-time general visual inspection for anti-fretting material contamination of the Halon filters and plumbing parts of the FMS in the LDCC, do applicable corrective actions if necessary; and related investigative and other specified actions; in accordance with the Accomplishment Instructions of the applicable service bulletin in table 3 of this AD. The applicable corrective and related investigative and other specified actions must be done before further flight.

Table 3.—Service Bulletins for Inspecting FMS in the LDCC
For model— | Airbus service bulletin—
(1) A330-201, -202, -203, -223, -243, -301, -321, -322, -323, -341, -342, and -343 airplanes | A330-26-3031, Revision 02, dated February 1, 2005.
(2) A340-211, -212, -213, -311, -312, and -313 airplanes | A340-26-4031, Revision 02, dated February 1, 2005.
(3) A340-541 airplanes | A340-26-5007, dated January 31, 2005.

Note 1: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

Inspection of FMCU in LDCC

(h) For airplanes identified in paragraph (c)(6) of this AD, on which the date of the original standard airworthiness certificate or the date of issuance of the original export certificate of airworthiness is before October 2, 2004: Except as provided by paragraph (j) of this AD, within 2,400 flight hours after the effective date of this AD, do a one-time general visual inspection for anti-fretting material contamination of the plumbing parts of the FMCU in the LDCC, and do applicable corrective and other specified actions. The actions must be done in accordance with the Accomplishment Instructions of Airbus Service Bulletin A340-26-5008, dated January 31, 2005. The applicable corrective and other specified actions must be done before further flight.

Inspection of the FMS in the BCRC

(i) For airplanes identified in Table 4 of this AD, on which the date of the original standard airworthiness certificate or the date of issuance of the original export certificate of airworthiness is before October 2, 2004: Except as provided by paragraph (j) of this AD, within 2,400 flight hours after the effective date of this AD, do a one-time general visual inspection for anti-fretting material contamination of the Halon filters and plumbing parts of the FMS in the BCRC, do applicable corrective if necessary; and related investigative and other specified actions. The actions must be done in accordance with the applicable service bulletin in table 4 of this AD. The applicable corrective and related investigative and other specified actions must be done before further flight.

Table 4.—Service Bulletins for Inspecting FMS in the BCRC
For airplanes identified in— | On which— | Do the actions in accordance with the accomplishment instructions of—
(1) Paragraphs (c)(5) and (c)(6) of this AD | The BCRC was incorporated in production in accordance with any Airbus modification 47198, 47884, 48895, 48710, 49316, 50107, 50900, or 51320 | Airbus Service Bulletin A340-26-5009, dated January 31, 2005.
(2) Paragraph (c)(4) of this AD | The BCRC was incorporated in production in accordance with Airbus modification 50901 | Airbus Service Bulletin A340-26-4035, dated February 22, 2005.

Compliance Time

(j) The inspection required by paragraphs (g), (h), and (i) of this AD may be done within 6,600 flight hours after the effective date of this AD, provided that you can conclusively determine from reviewing the airplane maintenance records that the fire extinguishing system has never been activated before the effective date of this AD. A log book entry is not acceptable for determining if a fire extinguishing bottle has been activated.

Alternative Methods of Compliance (AMOCs)

(k)(1) The Manager, International Branch, ANM-116, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(l) French airworthiness directives F-2005-019 R1 (for Model A330-200 and A330 -300 series airplanes), and F-2005-020 R1 (for Model A340-200 and A340-300 series airplanes, and Model A340-541 and A340-642 airplanes), both issued May 11, 2005, also address the subject of this AD.

Issued in Renton, Washington, on March 10, 2006.
Kalene C. Yanamura,
Acting Manager, Transport Airplane Directorate, Aircraft Certification Service.

[FR Doc. E6-4442 Filed 3-27-06; 8:45 am]

BILLING CODE 4910-13-P